DEPARTMENT OF THE INTERIOR

Bureau of Land Management

[LLUT980300-L12100000-PH0000-24-1A]

Notice of Utah's Resource Advisory Council (RAC) Conference Call Meetings on the Statewide Travel and Transportation Management Planning Policy

AGENCY: Bureau of Land Management, Interior.

ACTION: Notice of conference call meetings.

SUMMARY: In accordance with the Federal Land Policy and Management Act (FLPMA) and the Federal Advisory Committee Act of 1972 (FACA), the U.S. Department of the Interior, Bureau of Land Management's (BLM) Utah RAC will meet as indicated below.

DATES: The Utah RAC Subgroup on the Statewide Travel and Transportation Management Planning Policy will host a conference call meeting on September 8, 2011, from 3 p.m. until 4:30 p.m. (Mountain Time). The entire RAC will host a conference call on the same topic on September 15, 2011, from 11 a.m.-12:30 p.m. (Mountain Time).

ADDRESSES: On September 8, 2011, the public is invited to participate on the call at the BLM's Utah State Office, Monument A Conference Room, 440 West 200 South, Fifth Floor, Salt Lake City, Utah. On September 15, 2011, the public is invited to participate on the call at the BLM's Utah State Office, Monument A Conference Room, 440 West 200 South, Fifth Floor, Salt Lake City, Utah.

FOR FURTHER INFORMATION: Contact Sherry Foot, Special Programs Coordinator, Utah State Office, Bureau of Land Management, P.O. Box 45155, Salt Lake City, Utah 84145-0155; phone (801) 539-4195.

SUPPLEMENTARY INFORMATION: The 15-member Council advises the Secretary of the Interior, through the Bureau of Land Management, on a variety of planning and management issues associated with public land management in Utah. On September 8, the RAC Subgroup, which was formed to review the draft Instruction Memorandum (IM) on the Statewide Travel and Transportation Management Planning Policy, will host a conference call meeting to discuss the subgroup's recommendations to the entire RAC. On September 15, the entire RAC will host a conference call meeting to provide comments and feedback on the recommendations from the RAC Subgroup.

On September 8, from 4 p.m.-4:30 p.m., the public may address the Council during the public comment period. If there are no public comments, the conference call will conclude at 4:00 p.m. On September 15, from 12 p.m.-12:30 p.m., the public may address the Council during the public comment period. If there are no public comments, the conference call will conclude at noon. For further details about the conference call, contact Sherry Foot at the telephone number listed under FOR FURTHER INFORMATION. Written comments may be sent to the Bureau of Land Management addressed listed above.

All meetings are open to the public; however, transportation, lodging, and meals are the responsibility of the participating public.

Juan Palma,
State Director.

[FR Doc. 2011-20922 Filed 8-16-11; 8:45 am]

BILLING CODE 4310-DQ-P